COMMITTEE FOR PURCHASE FROM PEOPLE WHO ARE BLIND OR SEVERELY DISABLED

Procurement List; Proposed Additions

AGENCY: Committee for Purchase From People Who Are Blind or Severely Disabled.

ACTION: Proposed additions to Procurement List.

SUMMARY: The Committee is proposing to add to the Procurement List commodities and a service to be furnished by nonprofit agencies employing persons who are blind or have other severe disabilities.

COMMENTS MUST BE RECEIVED ON OR BEFORE: December 31, 2001.

ADDRESSES: Committee for Purchase From People Who Are Blind or Severely Disabled, Jefferson Plaza 2, Suite 10800, 1421 Jefferson Davis Highway, Arlington, Virginia 22202-3259.

FOR FURTHER INFORMATION CONTACT: Sheryl D. Kennerly (703) 603-7740.

SUPPLEMENTARY INFORMATION: This notice is published pursuant to 41 U.S.C. 47(a) (2) and 41 CFR 51-2.3. Its purpose is to provide interested persons an opportunity to submit comments on the possible impact of the proposed actions.

If the Committee approves the proposed additions, the entities of the Federal Government identified in this notice for each commodity or service will be required to procure the commodities and service listed below from nonprofit agencies employing persons who are blind or have other severe disabilities.

I certify that the following action will not have a significant impact on a substantial number of small entities. The major factors considered for this certification were:

1. The action will not result in any additional reporting, recordkeeping or other compliance requirements for small entities other than the small organizations that will furnish the commodities and service to the Government.

2. The action will result in authorizing small entities to furnish the commodities and service to the Government.

3. There are no known regulatory alternatives which would accomplish the objectives of the Javits-Wagner-O'Day Act (41 U.S.C. 46-48c) in connection with the commodities and service proposed for addition to the Procurement List. Comments on this certification are invited. Commenters should identify the statement(s) underlying the certification on which they are providing additional information.

The following commodities and service are proposed for addition to Procurement List for production by the nonprofit agencies listed:

Commodities

Stand, Office Machine

7110-00-601-9835

7110-00-601-9849

7110-01-136-1563

NPA: Knox County ARC Knoxville, Tennessee

GOVERNMENT AGENCY: GSA/National Furniture Center for Zones 2 and 3

Undershirt, Man's, Brown

8420-01-112-1472

8420-01-112-1473

8420-01-112-1474

8420-01-112-1475

8420-01-112-1476

8420-01-112-1477

8420-01-112-1478

8420-01-112-1479

(Additional 500,000 shirts/increase from 1,600,000 to 2,100,000)

NPA: The Arkansas Lighthouse for the Blind Little Rock, Arkansas

GOVERNMENT AGENCY: Defense Supply Center Philadelphia Cleaner, Tobacco Pipe

9920-00-292-9946

NPA: Rochester Psychiatric Center Rochester, New York

GOVERNMENT AGENCY: GSA/Industrial Products Contracting Division

Service

Food Service Attendant, 174th FW/LGC, NYANG, Hancock Field, 6001 E Malloy Road, Syracuse, NY

NPA: Oswego Industries, Inc. Fulton, New York

GOVERNMENT AGENCY: New York Air National Guard

Sheryl D. Kennerly,
Director, Information Management.

[FR Doc. 01-29782 Filed 11-29-01; 8:45 am]

BILLING CODE 6353-01-P